DEPARTMENT OF HOMELAND SECURITY

Coast Guard

33 CFR Part 117

[Docket No. USCG-2012-0821]

Drawbridge Operation Regulation; Columbia River, Vancouver, WA

AGENCY: Coast Guard, DHS.

ACTION: Notice of temporary deviation from regulations.

SUMMARY: The Coast Guard has issued a temporary deviation from the operating schedule that governs the Interstate 5 (I-5) Bridges across the Columbia River, mile 106.5, between Portland, OR and Vancouver, WA. This deviation is necessary to facilitate heavy maintenance on the bridges lift-spans. This deviation allows height-restricted lifts which will reduce the vertical clearance available to vessels transiting beneath the bridges.

DATES: This deviation is effective from 7 a.m. on September 15, 2012 through 6 p.m. October 14, 2012.

ADDRESSES: Documents mentioned in this preamble as being available in the docket are part of docket USCG-2012-0821 and are available online by going to http://www.regulations.gov, inserting USCG-2012-0821 in the “Keyword” box and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email the Bridge Administrator, Coast Guard Thirteenth District; telephone 206-220-7282 email randall.d.overton@uscg.mil. If you have questions on viewing the docket, call Renee V. Wright, Program Manager, Docket Operations, telephone 202-366-9826.

SUPPLEMENTARY INFORMATION: The Oregon Department of Transportation has requested that the Interstate 5 Bridges which cross the Columbia River at mile 106.5 only be required to lift to a reduced height of 130 feet above Columbia River Datum for a 30 day period. The height restricted lifts are necessary to facilitate heavy maintenance on the bridges lift-spans. The I-5 Bridges cross the Columbia River at mile 106.5 and provide three designated navigation channels with vertical clearances ranging from 39 to 72 feet above Columbia River Datum while the lift spans are in the closed position. Vessels which do not require a full bridge opening may continue to transit beneath the bridges during this maintenance period. Under normal operation the bridges are governed by 33 CFR 117.869, which requires that the draws open fully and promptly on signal except that the draws need not open from 6:30 a.m. to 9 a.m. and from 2:30 p.m. to 6 p.m. Monday through Friday excluding federal holidays. The lift-spans when fully opened provide 178 feet of vertical clearance above Columbia River Datum. This deviation period is from 7 a.m. on September 15, 2012 through 6 p.m. October 14, 2012. The deviation allows the lift spans of the I-5 Bridges across the Columbia River, mile 106.5, to be raised to a reduced height of 130 feet above Columbia River Datum from 7 a.m. on September 15, 2012 through 6 p.m. October 14, 2012. Scaffolding will be attached to the bridge during this maintenance evolution which will restrict the height the lift-spans can be raised. Lift heights greater than 130 feet above Columbia River Datum will not be capable during this maintenance period from September 15, 2012 until October 14, 2012. The bridge shall operate in accordance with 33 CFR 117.869 at all other times. Waterway usage on this stretch of the Columbia River includes vessels ranging from commercial tug and tow vessels to recreational pleasure craft. Mariners will be notified and kept informed of the bridge's operational status via the Coast Guard Notice to Mariners publication.

In accordance with 33 CFR 117.35(e), the drawbridges must return to their regular operating schedule immediately at the end of the designated time period. This deviation from the operating regulations is authorized under 33 CFR 117.35.

Dated: August 21, 2012.
Randall D. Overton,
Bridge Administrator.

[FR Doc. 2012-21535 Filed 8-30-12; 8:45 am]

BILLING CODE 9110-04-P